DEPARTMENT OF TRANSPORTATION

Federal Aviation Administration

Notice of Request To Release Airport Property for Land Disposal

AGENCY: Federal Aviation Administration (FAA), DOT.

ACTION: Notice of request to rule on release of airport property for land disposal at the Oskaloosa Municipal Airport, Oskaloosa, Iowa.

SUMMARY: The FAA proposes to rule and invites public comment on the release of land at the Oskaloosa Municipal Airport, Oskaloosa, Iowa.

DATES: Comments must be received on or before August 12, 2019.

ADDRESSES: Comments on this application may be mailed or delivered to the FAA at the following address: Lynn D. Martin, Airports Compliance Specialist, Federal Aviation Administration, Airports Division, ACE-610C, 901 Locust, Room 364, Kansas City, MO 64106.

In addition, one copy of any comments submitted to the FAA must be mailed or delivered to: Michael Schrock, Jr., City Manager, City of Oskaloosa, 220 S Market St., Oskaloosa, IA 52577, (641) 673-9431.

FOR FURTHER INFORMATION CONTACT: Lynn D. Martin, Airports Compliance Specialist, Federal Aviation Administration, Airports Division, ACE-610C, 901 Locust, Room 364, Kansas City, MO 64106, (816) 329-2644, lynn.martin@faa.gov.

The request to release property may be reviewed, by appointment, in person at this same location.

SUPPLEMENTARY INFORMATION: The FAA invites public comment on the request to release approximately 330.78± acres consisting of 6 parcels of airport property at the Oskaloosa Municipal Airport (OOA) under the provisions of 49 U.S.C. 47107(h)(2). On June 5, 2019, the City Manager of the City of Oskaloosa requested from the FAA that approximately 6 parcels of land totaling 330.78± acres of property be released for sale in order to purchase land for a new centrally located airport. On July 1, 2019, the FAA determined that the request to release property at the Oskaloosa Municipal Airport (OOA) submitted by the Sponsor meets the procedural requirements of the Federal Aviation Administration and the release of the property does not and will not impact future aviation needs at the airport. The FAA may approve the request, in whole or in part, no sooner than thirty days after the publication of this notice.

The following is a brief overview of the request:

The Oskaloosa Municipal Airport (OOA) is proposing the release of airport property totaling 6 parcels totaling 330.78± acres, more or less. The release of land is necessary to comply with Federal Aviation Administration Grant Assurances that do not allow federally acquired airport property to be used for non-aviation purposes. The sale of the subject property will result in the land at the Oskaloosa Municipal Airport (OOA) being changed from aeronautical to non-aeronautical use and release the lands from the conditions of the Airport Improvement Program Grant Agreement Grant Assurances in order to dispose of the land. In accordance with 49 U.S.C. 47107(c)(2)(B)(i) and (iii), the airport will receive fair market value for the property, which will be subsequently reinvested in another eligible airport improvement project for general aviation facilities at the future new airport.

Any person may inspect, by appointment, the request in person at the FAA office listed above under FOR FURTHER INFORMATION CONTACT. In addition, any person may, upon appointment and request, inspect the application, notice and other documents determined by the FAA to be related to the application in person at the Oskaloosa City Hall.

Issued in Kansas City, MO, on July 1, 2019.
Rodney Joel,
Acting Director, FAA Central Region, Airports Division.

[FR Doc. 2019-14634 Filed 7-10-19; 8:45 am]

BILLING CODE 4910-13-P